DEPARTMENT OF COMMERCE

National Oceanic and Atmospheric Administration

[I.D. 062702D]

Endangered Species; File No. 1189

AGENCY: National Marine Fisheries Service (NMFS), National Oceanic and Atmospheric Administration (NOAA), Commerce.

ACTION: Receipt of application for modification.

SUMMARY: Notice is hereby given that James P. Kirk, Engineer Research and Development Center, Waterways Experiment Station, EE-A, 3909 Halls Ferry Road, Vicksburg, MS 39180-6199, has requested a modification to scientific research Permit No. 1189.

DATES: Written or telefaxed comments must be received on or before August 19, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, NMFS, Southeast Region, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Lillian Becker or Ruth Johnson, (301)713-2289.

SUPPLEMENTARY INFORMATION: The subject modification to Permit No. 1189 is requested under the authority of the Endangered Species Act of 1973, as amended (16 U.S.C. 1531 et seq.) and the regulations governing the taking, importing, and exporting of endangered and threatened species (50 CFR 222-226).

Permit No. 1189, issued April 22, 1999, (64 FR 23281) authorizes the permit holder to capture 300 shortnose sturgeon by gill net or trot line then measure, tag weigh and release them. Twenty of these may be surgically implanted with radio/sonic tags and tracked. Mortalities are not to exceed one shortnose sturgeon per year. This permit is due to expire on December 31, 2002.

The permit holder previously requested the addition of trawling to the capture methods and now requests authorization to extend the permit for two more years with the same level of take for each year. This will give the researcher time to fully take advantage of the use of trawling to capture younger shortnose sturgeon.

In compliance with the National Environmental Policy Act of 1969 (42 U.S.C. 4321 et seq.), an initial determination has been made that the activity proposed is categorically excluded from the requirement to prepare an environmental assessment or environmental impact statement.

Dated: July 12, 2002.
Eugene T. Nitta,
Acting Chief, Permits, Conservation and Education Division, Office of Protected Resources, National Marine Fisheries Service.

[FR Doc. 02-18148 Filed 7-17-02; 8:45 am]

BILLING CODE 3510-22-S